SURFACE TRANSPORTATION BOARD

[Docket No. FD 36872]

Central of Georgia Railroad Company—Trackage Rights Exemption—Southern Electric Railroad Company

Central of Georgia Railroad Company (CGA), a Class III rail carrier,¹ has filed a verified notice of exemption under 49 CFR 1180.2(d)(7) to acquire approximately 2.64 miles of trackage rights on a line of railroad of Southern Electric Railroad Company (SERC) between milepost SA18.2 at Blanford, Ga., and a connection with private industry track in the vicinity of SERC's track crossing of the CSX Transportation, Inc. (CSXT) main track in Rincon, Ga. CGA describes four segments on this line: Trackage Segment A, extending from the NSR main line to the centerline of State Highway 21; Trackage Segment B, extending from the centerline of State Highway 21 to P.S. Prop. Lead Track; Trackage Segment C, extending from P.S. Prop. Lead Track to Fort Howard T/O; and Trackage Segment D, extending from Fort Howard T/O to P.S. Plant McIntosh Loop Track. (Verified Notice, Ex. B.)

¹ CGA states that it is a wholly owned subsidiary of Norfolk Southern Railway Company (NSR).

According to the verified notice, CGA and SERC will enter into a second amendment ² to their existing trackage rights agreement.³ CGA states that the trackage rights will allow CGA to operate trains in line-haul service and/or switch and/or make or break up trains carrying traffic (i) originating from or destined to points on Trackage Segment A, (ii) destined to Plant McIntosh located on Trackage Segment D, (iii) destined to Georgia-Pacific's facility located on Trackage Segment C, and/or (iv) originating from or destined to the Georgia International Rail Park, located on Trackage Segment A, or for emergency use where provided.

² CGA states that the agreement is being finalized and that CGA will submit an executed copy within 10 days of its execution pursuant to 49 CFR 1180.6(a)(7)(ii).

³ CGA states that it, SERC, and CSXT created a Memo for Operations on September 16, 1996, which was several months before the trackage rights agreement dated December 3, 1996, was entered into. According to CGA, based on available records, it appears operations commenced in 1997. CGA states that it searched extensively and could find no record that it ever sought authority for the trackage rights, which have been in place for nearly 28 years. CGA further states that there was an initial amendment of the original rights in June 2011, which was likewise inadvertently not submitted for approval. The June 2011 amendment primarily expanded the permissible purposes for which CGA could use the tracks. CGA explains that while negotiating the second amendment, CGA discovered its prior omissions, and CGA has filed its verified notice of exemption to correct the mistake going forward. Copies of the 1996 trackage rights agreement and June 2011 amendment were filed under seal with CGA's verified notice.

The transaction may be consummated on or after February 14, 2026, the effective date of the exemption (30 days after the verified notice was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed no later than February 6, 2026 (at least seven days before the exemption becomes effective).

All pleadings, referring to Docket No. FD 36872, must be filed with the Surface Transportation Board either via e-filing on the Board's website or in writing addressed to 395 E Street SW, Washington, DC 20423-0001. In addition, a copy of each pleading must be served on CGA's representative, William A. Mullins, Mullins Law Group PLLC, 2001 L Street NW, Suite 720, Washington, DC 20036.

According to CGA, this action is categorically excluded from environmental review under 49 CFR 1105.6(c) and from historic preservation reporting requirements under 49 CFR 1105.8(b).

Board decisions and notices are available at www.stb.gov.

Decided: January 27, 2026.
By the Board, Anika S. Cooper, Chief Counsel, Office of Chief Counsel.
Regena Smith-Bernard,
Clearance Clerk.

[FR Doc. 2026-01834 Filed 1-29-26; 8:45 am]

BILLING CODE 4915-01-P